SECURITIES AND EXCHANGE COMMISSION

Submission for OMB Review; Comment Request

Upon Written Reqeust; Copies Available From: Securities and Exchange Commission, Office of Filings and Information Services, Washington, DC 20549

Extension:

Form T-1, SEC File No. 270-121, OMB Control No. 3235-0110

Form T-2, SEC File No. 270-122, OMB Control No. 3235-0111

Form T-3, SEC File No. 270-123, OMB Control No. 3235-0105

Form T-4, SEC File No. 270-124, OMB Control No. 3235-0107

Rule 14f-1, SEC File No. 270-127, OMB Control No. 3235-0108

Rule 12d1-3, SEC File No. 270-116, OMB Control No. 3235-0109

Notice is hereby given that pursuant to the Paperwork Reduction Act of 1995 (44 U.S.C. 3501 et seq.) the Securities and Exchange Commission (Commission) has submitted to the Office of Management and Budget requests for extension on the previously approved collections of information discussed below.

Form T-1 is a statement of eligibility and qualification for corporate trustee under the Trust Indenture Act. Form T-1 is filed on occasion. The information required by form T-1 is mandatory. All information is provided to the public upon request. Form T-1 takes 15 burden hours to prepare and is filed by 180 respondents for a total of 2,700 burden hours.

Form T-2 is a statement of eligibility under the Trust Indenture Act of an individual designated to act as trustee. The information required by Form T-2 is mandatory. All information is provided to the public upon request. Form T-2 takes 9 burden hours to prepare and is filed by 36 respondents for a total of 324 burden hours.

Form T-3 is used as an application for qualification of indentures pursuant to the Trust Indenture Act, but only when securities to be issued thereunder are not required to be registered under the Securities Act of 1933. The information required by Form T-3 is mandatory. All information is provided to the public upon request. T-3 takes 43 burden hours to prepare and is filed by 55 respondents for a total of 2,365 burden hours.

Form T-4 is used to apply for an exemption from certain provisions of the Trust Indenture Act. The information required by Form T-4 is mandatory. All information is provided to the public upon request. Form T-4 takes 5 burden hours to prepare and is filed by 3 respondents for a total of 15 burden hours.

Rule 14f-1 requires issuers to disclose a change in a majority of issuer directors. The information filed under Rule 14f-1 must be filed with the Commission. All information submitted is provided to the public upon request. It takes 18 burden hours to prepare the necessary information and is filed by 44 respondents for a total of 792 burden hours.

Rule 12d1-3 requires a certification that a security has been approved by an exchange for listing and registration pursuant to Section 12(d) of the Securities Exchange Act to be filed with the Commission. The information required under Rule 12d1-3 must be filed with the Commission. All information filed with the Commission is available to the public upon request. It takes one-half hour to prepare the necessary information and is filed by 688 respondents for a total of 344 burden hours.

An agency may not conduct or sponsor, and a person is not required to respond to, a collection of information unless it displays a currently valid control number.

Written comments regarding the above information should be directed to the following persons: (i) Desk Officer for the Securities and Exchange Commission, Office of Information and Regulatory Affairs, Office of Management and Budget, Room 10102, New Executive Office Building, Washington, D.C. 20503; and (ii) Michael E. Bartell, Associate Executive Director, Office of Information Technology, Securities and Exchange Commission, 450 Fifth Street, N.W., Washington, D.C. 20549. Comments must be submitted to OMB within 30 days of this notice.

Dated: April 18, 2000.
Margaret H. McFarland,
Deputy Secretary.

[FR Doc. 00-10727 Filed 4-28-00; 8:45 am]

BILLING CODE 8010-01-M